ENVIRONMENTAL PROTECTION AGENCY

[EPA-HQ-OAR-2017-0639; FRL-9973-12-OAR]

Proposed Information Collection Request; Comment Request; Recordkeeping and Reporting of the Production, Import, Export, Destruction, Transhipment, and Exempted Uses of Ozone-Depleting Substances (Renewal)

AGENCY: Environmental Protection Agency (EPA).

ACTION: Notice.

SUMMARY: The Environmental Protection Agency is planning to submit an information collection request (ICR), “Recordkeeping and Reporting of the Production, Import, Export, Destruction, Transhipment, and Exempted Uses of Ozone-Depleting Substances (Renewal)” (EPA ICR No. 1432.32, OMB Control No. 2060-0170) to the Office of Management and Budget (OMB) for review and approval in accordance with the Paperwork Reduction Act. Before doing so, EPA is soliciting public comments on specific aspects of the proposed information collection as described below. This is a proposed extension of the ICR, which is currently approved through August, 2018, combined with two other ICRs for ozone-depleting substances (ODS). An Agency may not conduct or sponsor and a person is not required to respond to a collection of information unless it displays a currently valid OMB control number.

DATES: Comments must be submitted on or before March 20, 2018.

ADDRESSES: Submit your comments, referencing Docket ID No. EPA-HQ-OAR-2017-0639 online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Katherine Sleasman, Stratospheric Protection Division, (6205T), Environmental Protection Agency, 1200 Pennsylvania Ave. NW, Washington, DC 20460; telephone number: (202) 564-7716; fax number: (202) 564-4775; email address: sleasman.katherine@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA is seeking to combine multiple ICRs into a single ICR for all the recordkeeping and reporting related to the production, import, export, transformation, destruction, transhipment, and exempted uses of all ODS, and this merged renewal will allow for the option of electronic reporting and improvements to the electronic forms under Title VI of the Clean Air Act (CAA). Thus, for this ICR, EPA is renewing the existing ICR for class I ODS (ICR No. 1432.32; OMB Control No. 2060-0170) and transferring the burden under the ICR for class II ODS (EPA ICR No. 2014.07; OMB Control No. 2060-0498 Reporting and Recordkeeping Requirements of the HCFC Allowance System (Renewal)) and Methyl Bromide Critical Use Exemptions (EPA ICR No. 2031.08; OMB Control No. 2060-0482 Protection of Stratospheric Ozone: Request for Applications from Critical use Exemption for the Phase-out of Methyl Bromide (Renewal)). Both 2060-0498 and 2060-0482 will be discontinued once this ICR is approved.

This ICR covers the requirements under the Montreal Protocol on Substances that Deplete the Ozone Layer (Protocol) and Title VI of the CAA that establish limits on total U.S. production, import, and export of class I and class II controlled ODS (or controlled substances). Under its Protocol commitments, the United States has been obligated to cease production and import of class I controlled substances (chlorofluorocarbons and others) with exemptions for essential uses, critical uses of methyl bromide, quarantine and pre-shipment uses of methyl bromide, previously used material, and material that will be transformed or destroyed. The Protocol also establishes limits and reduction schedules leading to the eventual phaseout of class II controlled substances with limited exemptions for previously used material, and material that will be transformed, destroyed, or exported to developing countries.

Additionally, the CAA limits production and consumption of controlled substances which the EPA must adhere to and enforce. To implement the CAA provisions and satisfy commitments under the Montreal Protocol, the ODS phaseout regulations establish control measures for individual companies. EPA monitors company compliance through the recordkeeping and reporting requirements established in the regulations at 40 CFR part 82, subpart A.

EPA is also removing reporting elements that are no longer needed, revising others to address changes to a new electronic ODS Tracking System, and consolidating forms.

The Government Paperwork Elimination Act (GPEA, Pub. L. 105-277) requires that, when practicable, federal organizations use electronic forms, electronic filings, and electronic signatures to conduct official business with the public. EPA's Cross-Media Electronic Reporting Regulation (CROMERR) (October 13, 2005; 70 FR 59848; FRL-7977-1) provides that any requirement in Title 40 of the Code of Federal Regulations to submit a report directly to EPA can be satisfied with an electronic submission that meets certain conditions once the Agency publishes a notice that electronic document submission is available for that requirement.

In light of GPEA and CROMERR, this action will allow all manufacturers, importers, and processors of class I and class II ODS to use the internet, through EPA's Central Data Exchange (CDX), to submit ODS reports to the Agency. Companies will be able to register with EPA to submit their data electronically to the Agency via CDX and the Agency in turn will be able to communicate back electronically with submitters through a secure system. This promotes efficiency in communications and cost savings in submissions and correspondence. The adoption of electronic communications will reduce the reporting burden on industry by reducing both the cost and the time required to review, edit and transmit data to the Agency. All information sent via CDX will be transmitted securely to protect CBI. The Agency will also benefit from receiving electronic submissions. The electronic submission process through CDX will allow for the import of data into the ODS Tracking System, which will reduce the potential for human error that exists when data are entered by hand. Agency personnel will also be able to communicate more efficiently with submitters electronically, compared to using U.S. mail.

Upon receipt of the reports, the data is currently either entered or electronically imported into the ODS Tracking System. The ODS Tracking System is a secure database that maintains the data submitted to EPA and helps the Agency: (1) Maintain oversight over total production and consumption of controlled substances; (2) monitor compliance with limits and restrictions on production, imports, and trades and specific exemptions from the phaseout for individual U.S. companies; (3) enforce against illegal imports; and (4) assess and report on the U.S. phasedown caps established under the CAA and consistent with the Montreal Protocol.

EPA has implemented an electronic reporting system through CDX that allows regulated entities to prepare and submit data electronically. Coupled with the widespread use of the standardized forms, electronic reporting has improved data quality and made the reporting process efficient for both reporting companies and EPA.

EPA informs the respondents that they may assert claims of business confidentiality for any of the information they submit. Information claimed as confidential will be treated in accordance with the procedures for handling information claimed as confidential under 40 CFR part 2, subpart B, and will be disclosed to the extent, and by means of procedures, set forth in Subpart B. If no claim of confidentiality is asserted when the information is received by EPA, it may be made available to the public without further notice to the respondents (40 CFR 2.203). All information sent by the submitter via CDX is transmitted securely to protect CBI. The reporting tool guides the user through the process of submitting CBI. Documents containing information claimed as CBI must be submitted in an electronic format, in accordance with the recordkeeping requirements.

Form Numbers: Class I Producer Quarterly Report OMB Control No. 2060-0710, Class II Producer Quarterly Report OMB Control No. 2060-0498, Methyl Bromide Producer Quarterly Report OMB Control No. 2060-0482, Class I Importer Quarterly Report OMB Control No. 2060-0170, Class II Importer Quarterly Report OMB Control No. 2060-0498, Methyl bromide Importer Quarterly Report OMB Control No 2060-0482, Class I Exporter Annual Report OMB Control No. 2060-0170, Class II Exporter Quarterly Report OMB Control No. 2060-0498, Methyl Bromide Exporter Quarterly Report OMB Control No. 2060-0482, Second-Party Destruction Annual Report OMB Control No. 2060-0170, Second-Party Transformation Annual Report OMB Control No. 2060-0170, Class I Laboratory Supplier OMB Control No. 2060-0170, Methyl Bromide Pre-2005 Stocks Annual Report OMB Control No 2060-0482, Distributor of QPS Methyl Bromide Quarterly Report OMB Control No 2060-0482, Methyl Bromide Trades Report OMB Control No. 2060-0482, Methyl Bromide Sales of Critical Use Annual Report OMB Control No 2060-0482, Class II Request for Additional Consumption Allowances OMB Control No. 2060-0498, and Class II Trades Report OMB Control No. 2060-0498.

Respondents/Affected Entities: Entities required to comply with reporting and recordkeeping requirements include, chemical producers, importers, and exporters (CFCs and HCFCs); research and development (laboratories); and methyl bromide producers, importers, exporters, distributors, and applicators.

Respondent's Obligation To Respond: Mandatory—Section 603(b) of the Clean Air Act.

Estimated Number of Respondents: 106 (total).

Frequency of Response: Quarterly, annually, and as needed.

Total Estimated Burden: 3,811 hours (per year). Burden is defined at 5 CFR 1320.03(b).

Total Estimated Cost: $448,470 (per year), includes $13,082.00 annualized capital or operation & maintenance costs.

Changes in Estimates: There is a decrease of 1,644 hours in the total estimated respondent burden compared with the ICRs currently approved by OMB. This decrease compared to previous ICRs is because the merged ICR accounts for the transition from paper to electronic reporting and the decrease in the number of respondents. The reporting community continues to change as ODS are phased out. Specifically, we estimate fewer companies reporting on imports and exports of ODS. These updates are based on 2015 reporting activity. While the one-time burden associated with the transition to electronic reporting (i.e., CDX registration and electronic signature) temporarily increases burden, overall burden decreases because of the efficiencies associated with electronic reporting.

Dated: December 20, 2017.
Cynthia A. Newberg,
Acting Director, Stratospheric Protection Division.

[FR Doc. 2018-00938 Filed 1-18-18; 8:45 am]

BILLING CODE 6560-50-P